DEPARTMENT OF HEALTH AND HUMAN SERVICES

Substance Abuse and Mental Health Services Administration

Fiscal Year (FY) 2001 Funding Opportunities

AGENCY: Substance Abuse and Mental Health Services Administration, HHS.

ACTION: Notice of funding availability.

SUMMARY: The Substance Abuse and Mental Health Services Administration (SAMHSA) Center for Substance Abuse Prevention (CSAP) announces the availability of FY 2001 funds for grants for the following activity. This notice is not a complete description of the activity; potential applicants must obtain a copy of the Guidance for Applicants (GFA), including Part I, Targeted Capacity Expansion Initiatives for Substance Abuse Prevention (SAP) and HIV Prevention (HIVP) in Minority Communities, and Part II, General Policies and Procedures Applicable to all SAMHSA Applications for Discretionary Grants and Cooperative Agreements, before preparing and submitting an application.

Activity | Application deadline | Est. funds FY 2001 | Est. No. of awards | Project period
Targeted Capacity Expansion Initiatives for Substance Abuse Prevention and HIV Prevention in Minority Communities | July 10, 2001 | $16.6 million* | 77-80* | 1-5 years*.
* See the text below for more details on the funding, number of awards and the project period. This will vary with the three targeted initiatives.

The actual amount available for the award may vary, depending on unanticipated program requirements and the number an quality of applications received. FY 2001 funds for the activity discussed in this announcement were appropriated by the Congress under Public Law No. 106-310. SAMHSA's policies and procedures for peer review and Advisory Council review of grant and cooperative agreement applications were published in the Federal Register (Vol. 58, No. 126, page 35962) on July 2, 1993.

General Instructions: Applicants must use application form PHS 5161-1 (Rev. 7/00). The application kit contains the two-part application materials (complete programmatic guidance and instructions for preparing and submitting applications), the PHS 5161-1 which includes Standard Form 424 (Face Page), and other documentation and forms. Application kits may be obtained from: National Clearinghouse for Alcohol and Drug Information (NCADI), P.O. Box 2345, Rockville, MD 20847-2345, Telephone: 1-800-729-6686.

The PHS 5161-1 application form and the full text of the activity are also available electronically via SAMHSA's World Wide Web Home Page: http://www.samhsa.gov.

When requesting an application kit, the applicant must specify the particular activity for which detailed information is desired. All information necessary to apply, including where to submit applications and application deadline instructions, are included in the application kit.

Purpose: The Substance Abuse and Mental Health Services Administration (SAMHSA) Center for Substance Abuse Prevention (CSAP) announces the availability of Fiscal Year 2001 grant funds for three distinct Targeted Capacity Expansion Initiatives for Substance Abuse Prevention (SAP) and HIV Prevention (HIVP) in Minority Communities. Funds are available for expanding the capacity of public and private non-profit community-based organizations to establish the infrastructure necessary for providing sustained SAP and HIVP services in their communities. This can be achieved through the development of leadership, collaborations, coalitions, and partnerships. The FY2001 Minority SAP/HIVP Prevention Initiatives Program responds to the health emergency in African-American, Hispanic/Latino, American Indian/Alaska Native, and Asian-American/Pacific Islander communities described by the Congressional Black Caucus. It includes three targeted initiatives:

(1) Grants to plan for the establishment of new SAP and HIVP services. This initiative supports efforts to establish the infrastructure and leadership necessary for providing effective SAP and HIVP and other related services in minority communities. Funds will support planning efforts that will mobilize the community to increase access to effective SAP and HIVP services for the targeted minority communities.

(2) Cooperative Agreements to expand current service delivery systems to include substance abuse prevention, HIV prevention, and primary health care services. This initiative supports efforts to expand current service delivery systems to include effective, integrated SAP, HIVP, and primary health care services. Funds will support the development of new services and the integration of existing services in order to establish comprehensive systems of care for minority communities that are culturally-competent. At a minimum, applicants must provide integrated substance abuse prevention and HIV prevention services to their targeted communities. While applicants may also utilize these funds to integrate primary health care services into SAP and HIVP services, funds are not to be utilized for the actual provision of primary health care services.

(3) Cooperative agreements to faith-based and youth serving organizations working in partnership with youth-serving organizations to expand their youth service delivery to include effective integrated SAP and HIVP services. Funds may support the development of programs that result from collaborations between faith-based organizations and youth-serving organizations. These funds are available for existing programs as well as new programs provided they demonstrate effective, integrated SAP and HIVP services for youth.

Eligibility: Applications for Initiatives 1 and 2 may be submitted by domestic public and private non-profit community-based organizations that serve predominantly racial and ethnic minority populations disproportionally impacted by the HIV/AIDS epidemic. For example, the following are eligible to apply: community-based organizations, health care delivery systems, faith-based organizations, Indian tribes and tribal organizations, historically black colleges and universities (HBCUs), tribal colleges and universities (TCUs), Hispanic serving institutions (HSIs), and Hispanic Association of Colleges and Universities members (HACUs).

For the third initiative, applicants are limited to faith based organizations and by domestic public and private non-profit youth serving community-based organizations that serve predominately racial and ethnic minority populations disproportionately impacted by HIV/AIDS. The faith-based organizations must either have existing youth services or collaborate with youth-serving organizations. Youth-serving organizations must collaborate with faith-based organizations.

Availablity of Funds: For the first targeted initiative, approximately $4 million will be available for 45 awards. The average award should range from $75,000 to $100,000 in total costs (direct and indirect). Actual funding levels will depend on the availability of funds. For the second targeted initiative, approximately $8.6 million will be available for 20 awards. The average award should range from $300,000 to $500,000 in total costs (direct and indirect). Actual funding levels will depend on the availability of funds. For the third targeted initiative, approximately $4 million will be available for 12-15 awards. The average award should range from $250,000 to $300,000 in total costs (direct and indirect). Actual funding levels will depend on the availability of funds.

Period of Support: For the first targeted initiative, awards may be requested for 1 year. For the second and third initiative, awards may be requested for up to 5 years. Annual continuation awards will depend on the availability of funds and progress achieved by grantees.

Criteria for Review and Funding

General Review Criteria: Competing application requesting funding under this activity will be reviewed for technical merit in accordance with established PHS/SAMHSA peer review procedures. Review criteria that will be used by the peer review groups are specified in the application guidance material.

Award Criteria for Scored Applications: Applications will considered for funding on the basis of their overall technical merit as determined through the peer review group and the appropriate National Advisory Council review process. Availability of funds will also be an award criteria. Additional award criteria specific to the programmatic activity may be included in the application guidance materials.

Catalog of Federal Domestic Assistance Number: 93.230.

Program Contact: For questions concerning program issues, contact: Fabian O. Eluma, Center for Substance Abuse Prevention Substance Abuse and Mental Health Services Administration, Rockwall II, 9th Floor, 5600 Fishers Lane, Rockville, MD 20857, (301) 443-5266, E-Mail feluma@samhsa.gov.

For questions regarding grants management issues, contact: Edna Frazier, Division of Grants Management, OPS, Substance Abuse and Mental Health Services Administration, Rockwall II, 6th Floor, 5600 Fishers Lane, Rockville, Maryland 20857, (301) 443-6816, E-Mail: efrazier@samhsa.gov.

Public Health System Reporting Requirements: The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2001 activity is subject to the Public Health System Reporting Requirements.

PHS Non-use of Tobacco Policy Statement: The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12373: Applicants submitted in response to the FY 2001 activity listed above are subject to the intergovernmental review requirements of Executive Order 12372, as implemented through DHHS regulations at 45 CFR part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: March 14, 2001.
Richard Kopanda,
Executive Officer, Substance Abuse and Mental Health Services Administration.

[FR Doc. 01-6823 Filed 3-19-01; 8:45 am]

BILLING CODE 4162-20-M